DEPARTMENT OF COMMERCE

International Trade Administration

[A-533-813]

Certain Preserved Mushrooms From India: Final Results of Antidumping Duty Administrative Review

AGENCY: Import Administration, International Trade Administration, Department of Commerce.

ACTION: Notice of final results of antidumping duty administrative review.

SUMMARY: On March 7, 2003, the Department of Commerce published the preliminary results of the third administrative review of the antidumping duty order on certain preserved mushrooms from India. The review covers three manufacturers/exporters. The period of review is February 1, 2001, through January 31, 2002.

Based on our analysis of the comments received, we have made changes in the margin calculations. Therefore, the final results differ from the preliminary results. The final weighted-average dumping margins for the reviewed firms are listed below in the section entitled “Final Results of Review.”

EFFECTIVE DATE: July 11, 2003.

FOR FURTHER INFORMATION CONTACT: David J. Goldberger or Katherine Johnson, Office 2, AD/CVD Enforcement Group I, Import Administration—Room B099, International Trade Administration, U.S. Department of Commerce, 14th Street and Constitution Avenue, NW., Washington, DC 20230; telephone: (202) 482-4136 or (202) 482-4929, respectively.

SUPPLEMENTARY INFORMATION:

Background

The review covers three manufacturers/exporters: Agro Dutch Foods Ltd. (“Agro Dutch”), Himalya International Ltd. (“Himalya”), and Weikfield Agro Products Ltd. (“Weikfield”). The period of review is February 1, 2001, through January 31, 2002.

On March 7, 2003, the Department of Commerce published the preliminary results of the third administrative review of the antidumping duty order on certain preserved mushrooms from India (68 FR 11045). We invited parties to comment on the preliminary results of review. On April 7, 2003, we received a request for a public hearing from respondent Weikfield. We received case briefs from the petitioner,¹ Agro Dutch, and Weikfield on May 2, 2003. We received rebuttal briefs from the petitioner and Weikfield on May 13, 2003. On June 3, 2003, Weikfield withdrew its request for a public hearing. We have conducted this administrative review in accordance with section 751(a) of the Tariff Act of 1930, as amended (“the Act”).

¹ The petitioner is the Coalition for Fair Preserved Mushroom Trade which includes the American Mushroom Institute and the following domestic companies: L.K. Bowman, Inc.; Modern Mushroom Farms, Inc.; Monterey Mushrooms, Inc.; Mount Laurel Canning Corp.; Mushrooms Canning Company; Southwood Farms; Sunny Dell Foods, Inc.; and United Canning Corp.

Scope of the Order

The products covered by the order are certain preserved mushrooms, whether imported whole, sliced, diced, or as stems and pieces. The preserved mushrooms covered under the order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of the order are “brined” mushrooms, which are presalted and packed in a heavy salt solution to provisionally preserve them for further processing.

Excluded from the scope of the order are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.

The merchandise subject to the order is classifiable under subheadings 2003.10.0127, 2003.10.0131, 2003.10.0137, 2003.10.0143, 2003.10.0147, 2003.10.0153, and 0711.51.0000 of the Harmonized Tariff Schedule of the United States (“HTSUS”) ². Although the HTSUS subheadings are provided for convenience and customs purposes, our written description of the scope of the order is dispositive.

² Prior to January 1, 2002, the HTSUS numbers were as follows: 2003.10.0027, 2003.10.0031, 2003.10.0037, 2003.10.0043, 2003.10.0047, 2003.10.0053, and 0711.90.4000.

Analysis of Comments Received

All issues raised in the case and rebuttal briefs by parties to this antidumping duty administrative review are addressed in the “Issues and Decision Memorandum” (“Decision Memo”) from Jeffrey May, Deputy Assistant Secretary for Import Administration, to Joseph A. Spetrini, Acting Assistant Secretary for Import Administration, dated July 7, 2003, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at http://ia.ita.doc.gov/. The paper copy and electronic version of the Decision Memo are identical in content.

Changes From the Preliminary Results

Based on our analysis of comments received, we have made certain changes to the margin calculations, including:

• We revised the calculation for Weikfield's indirect selling expenses to exclude the amounts for commissions and discounts Weikfield and its affiliate paid to unaffiliated parties.

• We revised Weikfield's U.S. indirect selling expenses used as an offset to home market commissions to include inventory carrying expenses.

• We excluded a deduction from Weikfield's home market price for “Discount Program 2.”

• We did not make a deduction for the Indian export tax to the price of one of Weikfield's U.S. sales.

• We revised Weikfield's reported general and administrative (G&A) expenses to include idle depreciation costs experienced during the POR.

• We revised Weikfield's reported financial expenses to exclude long-term financial and non-financial income. In addition, we included all financial expenses incurred during the POR, including certain expenses associated with debt restructuring. Finally, we calculated the financial expense ratio based on the highest level of audited fiscal year financial statements prepared by Weikfield.

• As Agro Dutch had no comparison market during the POR, and its constructed value selling expenses and profit rate were based on the weighted-average selling and profit amounts incurred on home market sales by Himalya and Weikfield, we revised the selling expenses and profit used to calculate Agro Dutch's constructed value to account for the revisions to the Weikfield margin calculation outlined above. For a discussion of these changes, see the “Margin Calculations” section of the Decision Memo and the various comments discussed in the Decision Memo.

Final Results of Review

We determine that the following weighted-average margin percentages exist:

Manufacturer/Exporter | Margin (percent)
Agro Dutch Foods Ltd/Agro Dutch Industries Ltd | 1.02
Himalya International Ltd (de minimis) | 0.08
Weikfield Agro Products Ltd | 34.66

Assessment

The Department shall determine, and the U.S. Bureau of Customs and Border Protection (BCBP) shall assess, antidumping duties on all appropriate entries. The Department will issue appropriate assessment instructions directly to BCBP within 15 days of publication of these final results of review. In accordance with 19 CFR 351.106(c)(1), we will instruct BCBP to assess antidumping duties on all appropriate entries covered by this review if any importer-specific assessment rate calculated in the final results of this review is above de minimis (i.e., less than 0.50 percent). For assessment purposes, we do not have the actual entered value for Agro Dutch and Weikfield because these respondents are not the importers of record for the subject merchandise. Accordingly, we have calculated customer-specific assessment rates by aggregating the dumping margins calculated for all of Agro Dutch's and Weikfield's U.S. sales examined and dividing the respective amounts by the total quantity of the sales examined for each producer. With respect to Himalya, we calculated importer-specific assessment rates for the subject merchandise from Himalya by aggregating the dumping margins calculated for all of Himalya's U.S. sales examined and dividing this amount by the total entered value of the sales examined. To determine whether the duty assessment rates were de minimis, in accordance with the requirement set forth in 19 CFR 351.106(c)(2), we calculated customer-or importer-specific ad valorem ratios based on export prices.

Cash Deposit Requirements

The following cash deposit requirements will be effective for all shipments of the subject merchandise entered, or withdrawn from warehouse, for consumption on or after the publication date of the final results of this administrative review, as provided by section 751(a)(1) of the Act: (1) The cash deposit rates for the reviewed companies will be those established in the final results of this review, except if the rate is less than 0.50 percent, and therefore, de minimis within the meaning of 19 CFR 351.106(c)(1), in which case the cash deposit rate will be zero; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 11.30 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated:July 7, 2003.
Jeffrey May,
Acting Assistant Secretary for Grant Aldonas, Under Secretary.

Appendix—List of Issues

Company-Specific Comments:

Agro Dutch

Comment 1: Calculation of the Work-in-Process Offset

Comment 2: Application of Adverse Facts Available

Weikfield

Comment 3: Home Market Quantity Discounts

Comment 4: Affiliated Party Commissions

Comment 5: Home Market Indirect Selling Expenses

Comment 6: U.S. Indirect Selling Expenses for Commission Offset

Comment 7: Calculation of U.S. Credit Expense

Comment 8: CESS for Observation 33

Comment 9: Offset to Direct Materials Cost

Comment 10: Depreciation of Idle Assets

Comment 11: Addition of WPCL General and Administrative Expenses

Comment 12: Weikfield General and Administrative Expense Calculation

Comment 13: Gain on Debt Restructuring as Offset to Financial Expenses

Comment 14: Interest Expenses from ICICI Loan

Comment 15: Cost of Goods Sold for the Financial Expense Ratio

Comment 16: Offsetting Positive Margins with Negative Margins

[FR Doc. 03-17627 Filed 7-10-03; 8:45 am]

BILLING CODE 3510-DS-P